FEDERAL COMMUNICATIONS COMMISSION

[WT Docket No. 06-220; DA 06-2487]

Joseph W. Hartmann, Jr., Application for New License in the Amateur Radio Service

AGENCY: Federal Communications Commission.

ACTION: Notice.

SUMMARY: In this document, the Commission initiates a hearing proceeding before a Commission Administrative Law Judge to determine whether an application for a new license in the Amateur Radio Service filed by Joseph W. Hartmann, Jr. should be granted.

DATES: The document was mailed to the party on December 12, 2006.

ADDRESSES: Federal Communications Commission, 445 12th St., SW., Washington, DC 20554.

FOR FURTHER INFORMATION CONTACT: Gary Schonman, Enforcement Bureau, at Gary.Schonman@fcc.gov or (202) 418-1795 or TTY (202) 418-1152.

SUPPLEMENTARY INFORMATION: This is a summary of the Hearing Designation Order in WT Docket No. 06-220, DA 06-2487, adopted and released by the Commission's Wireless Telecommunications Bureau on December 11, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

Synopsis of the Order

1. In this Hearing Designation Order the Commission initiates a hearing proceeding before a Commission Administrative Law Judge to determine whether an application for a new license in the Amateur Radio Service filed by Joseph W. Hartmann, Jr. should be granted. The record before the Commission suggests that Joseph W. Hartmann, Jr. of Ohio submitted fraudulent administrative updates to obtain the privileges associated with Amateur Radio Service General Class License K3GUX that belongs to Joseph V. Hartman, Sr. of Delaware, which raises a substantial and material question of fact as to whether Hartmann, Jr. possesses the requisite character qualification to be a Commission licensee. Because we are unable to make a determination on the record currently before us that grant of Hartmann, Jr.'s application for a new amateur license would serve the public interest, convenience, and necessity, we hereby designate the application for hearing, as required by 47 U.S.C. 309(e) of the Communications Act of 1934, as amended.

2. Pursuant to sections 4(i) and 309(e) of the Communications Act of 1934, as amended, 47 U.S.C. 154(i), and 309(e), the captioned application is designated for hearing in a proceeding before an FCC Administrative Law Judge, at a time and place to be specified in a subsequent Order, upon the following issues:

(a) To determine whether Joseph W. Hartmann, Jr. made false certifications, misrepresentations to, and or lacked candor before, the Commission in applications and or responses to Commission inquires.

(b) To determine the effect of Joseph W. Hartmann, Jr.'s representations of fact to, and candor before, the Commission on his qualifications to be licensed by the Commission.

(c) In light of the evidence adduced pursuant to the foregoing issues, to determine whether Joseph W. Hartmann, Jr. is qualified to be a Commission licensee.

(d) In light of the evidence adduced pursuant to the foregoing issues, to determine whether the captioned application filed by Joseph W. Hartmann, Jr. should be granted.

3. Pursuant to section 4(i) of the Communications Act of 1934, as amended, 47 U.S.C. 154(i), and 1.221(c) of the Commission's rules, 47 CFR 1.221(c), in order to avail himself of the opportunity to be heard, Hartmann, Jr., in person or by his attorney, shall file with the Commission, within twenty days of the mailing of this Hearing Designation Order to him, a written appearance stating that he will appear on the date fixed for hearing and present evidence on the issues specified herein.

4. Pursuant to § 1.221(c) of the Commission's rules, 47 CFR 1.221(c), if Hartmann, Jr. fails to file a written appearance within the twenty-day period, or has not filed prior to the expiration of the twenty-day period, a petition to dismiss without prejudice, or a petition to accept, for good cause shown, a written appearance beyond the expiration of the twenty-day period, the Presiding Administrative Law Judge shall dismiss the captioned application with prejudice for failure to prosecute.

5. Pursuant to sections 4(i) and 309(e) of the Communications Act of 1934, as amended, 47 U.S.C. 154(i), 309(e), the burden of proceeding with the introduction of evidence and the burden of proof with respect to all of the issues specified above shall be on Hartmann, Jr.

6. This hearing will be governed by the rules of practice and procedure pertaining to the Commission's Hearing Proceedings, 47 CFR 1.201 through 1.364, subject to the ALJ's discretion to regulate the hearing.

7. All Discovery shall be conducted in accordance with 47 CFR 1.311 through 1.325, subject to the ALJ's discretion.

8. The Secretary of the Commission shall cause to have this Hearing Designation Order or a summary thereof published in the Federal Register.

9. This action is taken under delegated authority pursuant to §§ 0.131 and 0.331 of the Commission's rules, 47 CFR 0.131, and 0.331.

Federal Communications Commission.
Scot Stone,
Deputy Chief, Mobility Division.

[FR Doc. E7-1191 Filed 1-25-07; 8:45 am]

BILLING CODE 6712-01-P